SMALL BUSINESS ADMINISTRATION

Federal Assistance Grant to Fund Women's Business Center Projects to Provide Financial Counseling and Other Technical Assistance to Women

AGENCY: Small Business Administration.

ACTION: Program Announcement No. OWBO-2004-021.

SUMMARY: The U.S. Small Business Administration (SBA) plans to issue program announcement No. OWBO-2004-021 to invite applications from eligible nonprofit organizations to conduct Women's Business Center (WBC) projects. The successful applicant will receive a grant to provide counseling, training and other technical assistance to women in nascent and existing businesses. The authorizing legislation is the Small Business Act, Section 2(h) and 29, 15 U.S.C. 631(h) and 656.

A Women's Business Center is a 5-year community-based project that is funded by the SBA through a grant that requires matching funds. The project is a planned scope of activities that provide business services targeted to women. The project must operate as a distinct unit of the recipient's organization having its own budget for facilities, equipment and resources to carry out project activities. The WBC services must include long-term training and counseling to benefit small business concerns owned and controlled by women.

SBA Headquarters must receive applications/proposals by 4 p.m., Eastern Daylight Time, on the closing date of May 6, 2004. SBA will select successful applicants using a competitive technical evaluation process.

Service and assistance areas must include financial, management, marketing, eCommerce, government procurement and training on the business uses of the Internet. Applicants must plan to include women who are socially and economically disadvantaged in the target group. The applicant may propose specialized services that will assist women in Empowerment Zones, agribusiness, rural or urban areas, etc. The applicant may propose to serve women who are veterans and women with home-based businesses, women with disabilities, etc. SBA will request award recipients to provide content and support activities to the SBA Online Women's Business Center, at http://www.onlinewbc.gov.

The applicants' technical proposal must contain information about its current status and past performance. Also, the applicant must provide a 5-year plan for service delivery, fund-raising, training and technical assistance activities. The grant will be issued annually through a 5-year term without re-competition. The non-Federal match requirement is one non-Federal dollar for each two Federal dollars in years 1 and 2; and one non-Federal dollar for each Federal dollar in years 3, 4, and 5. Up to one-half of the non-Federal match funds may be in the form of in-kind contributions (i.e., 50% of match must be in cash).

DATES: The opening date of the application period April 1, 2004 and the closing date is May 6, 2004.

FOR FURTHER INFORMATION CONTACT: Interested parties may access Program Announcement No. OWBO-2004-021 and application materials on the application opening date of April 1, 2004 at http://www.onlinewbc.gov/grants.html. If necessary, contact Sally Murrell, WBC Program Manager at (202) 205-6673.

Sally Murrell,
Director, WBC Program, SBA/Office of Women's Business Ownership.

[FR Doc. E4-740 Filed 4-1-04; 8:45 AM]

BILLING CODE 8025-01-P